ENVIRONMENTAL PROTECTION AGENCY

[FRL-11465-01-R5]

Clean Air Act Operating Permit Program; Order on Petition for Objection to State Operating Permit for Chicago Department of Aviation, Cook County, Illinois

AGENCY: Environmental Protection Agency (EPA).

ACTION: Notice of final order on petition.

SUMMARY: The Environmental Protection Agency (EPA) Administrator signed an order dated September 29, 2023, denying a petition dated January 5, 2023, submitted by an anonymous petitioner identified as C23D32 (the Petitioner). The petition requested that EPA object to a Clean Air Act (CAA) title V operating permit issued by the Illinois Environmental Protection Agency (IEPA) to the Chicago Department of Aviation located in Cook County, Illinois.

ADDRESSES: The final order, the petition, and other supporting information are available for public inspection during normal business hours at the following address: Environmental Protection Agency, Region 5, Air and Radiation Division, 77 West Jackson Boulevard, Chicago, Illinois 60604. This facility is open from 8:30 a.m. to 4:30 p.m., Monday through Friday, excluding Federal holidays and facility closures due to COVID-19. We recommend that you contact the individual listed in the FOR FURTHER INFORMATION CONTACT section before visiting the Region 5 office. Additionally, the final order and petitions are available electronically at: https://www.epa.gov/title-v-operating-permits/title-v-petition-database.

FOR FURTHER INFORMATION CONTACT: Dan Wolski, Air Permits Section, Air Programs Branch (AR-18J), Environmental Protection Agency, Region 5, 77 West Jackson Boulevard, Chicago, Illinois 60604, (312) 886-0557, wolski.daniel@epa.gov.

SUPPLEMENTARY INFORMATION: EPA received a petition from C23D32 dated January 5, 2023, requesting that EPA object to the issuance of operating permit no. 95110002, issued by IEPA to Chicago Department of Aviation in Cook County, Illinois. On September 29, 2023, the EPA Administrator issued an order denying the petition. The order explains the basis for EPA's decision.

Sections 307(b) and 505(b)(2) of the CAA provide that a petitioner may request judicial review of those portions of an order that deny issues in a petition. Any petition for review shall be filed in the United States Court of Appeals for the appropriate circuit no later than February 13, 2024.

Authority: 42 U.S.C. 7401 et seq.

Dated: December 11, 2023.
Debra Shore,
Regional Administrator, Region 5.

[FR Doc. 2023-27553 Filed 12-14-23; 8:45 am]

BILLING CODE 6560-50-P